DEPARTMENT OF COMMERCE

National Oceanic and Atmospheric Administration

Evaluation of National Estuarine Research Reserve

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Mission Aransas National Estuarine Research Reserve.

DATES: Mission Aransas National Estuarine Research Reserve: The public meeting will be held on July 16, 2020, and written comments must be received on or before July 26, 2020. For specific dates, times, and locations of the public meetings, see SUPPLEMENTARY INFORMATION.

ADDRESSES: You may submit comments on the coastal program NOAA intends to evaluate by any of the following methods:

Public Meeting and Oral Comments: A public meeting will be held virtually. For specific information on how to participate see SUPPLEMENTARY INFORMATION.

Written Comments: Please submit written comments to Pam Kylstra, Program Development Specialist, NOAA Office for Coastal Management, 2234 South Hobson Avenue, Charleston, South Carolina 29405 or email comments to Pam.Kylstra@noaa.gov. Comments that the Office for Coastal Management receives are considered part of the public record and may be publicly accessible. Any personal identifying information (e.g., name, address) submitted voluntarily by the sender may also be publicly accessible. NOAA will accept anonymous comments.

FOR FURTHER INFORMATION CONTACT: Pam Kylstra, Program Development Specialist, NOAA Office for Coastal Management, NOS/NOAA, 2234 South Hobson Avenue, Charleston, South Carolina 29405, by phone at (843) 740-1259 or email Pam.Kylstra@noaa.gov. Copies of the previous evaluation findings may be viewed and downloaded on the internet at https://coast.noaa.gov/czm/evaluations/evaluation_findings/index.html. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state coastal programs. The process includes one or more public meetings, consideration of written public comments, and consultations with interested Federal, state, and local agencies and members of the public. During the evaluation, NOAA will consider the extent to which the University of Texas at Austin has met the national objectives, adhered to the management program approved by the Secretary of Commerce, and adhered to the terms of financial assistance under the CZMA. When the evaluation is completed, NOAA's Office for Coastal Management will place a notice in the Federal Register announcing the availability of the Final Evaluation Findings.

You may participate or submit oral comments at the public meeting scheduled as follows:

Date: Thursday, July 16, 2020

Time: 6:00 p.m., local time

Instructions for joining the public meeting and providing public comment will be made available by July 2, 2020 at https://coast.noaa.gov/czm/evaluations/.

Written public comments must be received on or before July 26, 2020.

Keelin Kuipers,
Deputy Director, Office for Coastal Management, National Ocean Service, National Oceanic and Atmospheric Administration.

[FR Doc. 2020-12876 Filed 6-15-20; 8:45 am]

BILLING CODE 3150-JE-P